DEPARTMENT OF COMMERCE

National Oceanic and Atmospheric Administration

RIN 0648-XG156

Mid-Atlantic Fishery Management Council (MAFMC); Public Meetings

AGENCY: National Marine Fisheries Service (NMFS), National Oceanic and Atmospheric Administration (NOAA), Commerce.

ACTION: Notice of a public meeting.

SUMMARY: The Mid-Atlantic Fishery Management Council (Council) will hold a public workshop to provide a forum for fishermen, managers, and scientists from the United States and European Union to interact and discuss possible solutions to the complex problems associated with the small-mesh pelagic fisheries in their respective regions.

DATES: The meeting will be held Tuesday, May 1, 2018 through Thursday, May 3, 2018. For agenda details, see SUPPLEMENTARY INFORMATION.

ADDRESSES: The meeting will be held at: the Beauport Hotel Gloucester, 55 Commercial Street, Gloucester, MA 01930, telephone: (844) 282-0008.

Council address: Mid-Atlantic Fishery Management Council, 800 N State St., Suite 201, Dover, DE 19901; telephone: (302) 674-2331.

FOR FURTHER INFORMATION CONTACT: Christopher M. Moore, Ph.D. Executive Director, Mid-Atlantic Fishery Management Council; telephone: (302) 526-5255.

SUPPLEMENTARY INFORMATION: The workshop will involve a combination of presentations, group discussions, and field trips designed to give participants first-hand knowledge of local fishery operations and issues. A detailed agenda and additional information are available on the Council's website at http://www.mafmc.org/workshop/us-eu-pelagics-workshop.

Special Accommodations

These meetings are physically accessible to people with disabilities. Requests for sign language interpretation or other auxiliary aid should be directed to M. Jan Saunders, (302) 526-5251, at least 5 days prior to the meeting date.

Dated: April 6, 2018.
Tracey L. Thompson,
Acting Deputy Director, Office of Sustainable Fisheries, National Marine Fisheries Service.

[FR Doc. 2018-07473 Filed 4-10-18; 8:45 am]

BILLING CODE 3510-22-P